DEPARTMENT OF STATE

[Public Notice: 5045]

60-Day Notice of Proposed Information Collection: Forms DS-573, DS-574, DS-575, and DS-576, Overseas Schools—Grant Request Automated Submissions Program (GRASP), OMB Control No. 1405-0036

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Overseas Schools Grant Request Automated Submissions Program (GRASP).

• OMB Control Number: 1405-0036.

• Type of Request: Extension of a Currently Approved Collection.

• Originating Office: A/OPR/OS.

• Form Number: DS-573, DS-574, DS-575, DS-576.

• Respondents: Recipients of grants.

• Estimated Number of Respondents: 190.

• Estimated Number of Responses: 190.

• Average Hours Per Response: 1.50.

• Total Estimated Burden: 285 hours.

• Frequency: Annually.

• Obligation to Respond: Required to retain a benefit.

DATES: The Department will accept comments from the public up to 60 days from April 11, 2005.

ADDRESSES: Public comments, or requests for additional information, regarding the collection listed in this notice, should be directed to Keith D. Miller, Office of Overseas Schools.

You may submit comments by any of the following methods:

• E-mail: millerkd2@state.gov. You must include the DS form number (if applicable), information collection title, and OMB control number in the subject line of your message.

• Mail (paper, disk, or CD-ROM submissions): Keith D. Miller, Office of Overseas Schools, U.S. Department of State, Room H-328, 2401 E Street, NW., Washington, DC 20522-0132.

• Fax: 202-261-8224.

• Hand Delivery or Courier: Same as mailing address.

FOR FURTHER INFORMATION CONTACT: Direct requests for additional information regarding the collection listed in this notice, including requests for copies of the proposed information collection and supporting documents, to Keith D. Miller, Office of Overseas Schools, U.S. Department of State, Room H-328, 2401 E Street, NW., Washington, DC 20522-0132, who may be reached on 202-261-8200 or at millerkd2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The Office of Overseas Schools of the Department of State (A/OPR/OS) is responsible for determining that adequate educational opportunities exist at Foreign Service Posts for dependents of U.S. Government personnel stationed abroad, and for assisting American-sponsored overseas schools to demonstrate U.S. educational philosophy and practice. The information gathered enables A/OPR/OS to advise the Department and other foreign affairs agencies regarding current and constantly changing conditions, and enables A/OPR/OS to make judgments regarding assistance to schools for the improvement of educational opportunities.

Methodology

Information is collected via electronic media.

Dated: March 31, 2005.
Peggy M. Philbin,
Executive Director, Bureau of Administration, Department of State.

[FR Doc. 05-7237 Filed 4-8-05; 8:45 am]

BILLING CODE 4710-24-P